DEPARTMENT OF THE INTERIOR

National Park Service

[NPS-WASO-NAGPRA-23374; PPWOCRADN0-PCU00RP14.R50000]

Notice of Inventory Completion: U.S. Department of the Interior, National Park Service, Hubbell Trading Post National Historic Site, Ganado, AZ

AGENCY: National Park Service, Interior.

ACTION: Notice.

SUMMARY: The U.S. Department of the Interior, National Park Service, Hubbell Trading Post National Historic Site, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to Hubbell Trading Post National Historic Site. If no additional requestors come forward, transfer of control of the human remains to the Indian Tribes or Native Hawaiian organizations stated in this notice may proceed.

DATES: Representatives of any Indian Tribe or Native Hawaiian organization not identified in this notice that wish to request transfer of control of these human remains should submit a written request with information in support of the request to Hubbell Trading Post National Historic Site at the address in this notice by July 31, 2017.

ADDRESSES: Lloyd Masayumptewa, Superintendent, Hubbell Trading Post National Historic Site, ½ Mile West of Highway 191 & 264, Ganado, AZ 86505, telephone (928) 755-3475, email lloyd_masayumptewa@nps.gov.

SUPPLEMENTARY INFORMATION: Notice is here given in accordance with the Native American Graves Protection and Repatriation Act (NAGPRA), 25 U.S.C. 3003, of the completion of an inventory of human remains under the control of the U.S. Department of the Interior, National Park Service, Hubbell Trading Post National Historic Site, Ganado, AZ. The human remains were removed from an unknown location.

This notice is published as part of the National Park Service's administrative responsibilities under NAGPRA, 25 U.S.C. 3003(d)(3). The determinations in this notice are the sole responsibility of the Superintendent, Hubbell Trading Post National Historic Site.

Consultation

A detailed assessment of the human remains was made by Hubbell Trading Post National Historic Site professional staff in consultation with representatives of the Fort Sill Apache Tribe of Oklahoma; Hopi Tribe of Arizona; Jicarilla Apache Nation, New Mexico; Navajo Nation, Arizona, New Mexico & Utah; Pueblo of Laguna, New Mexico; and Ute Mountain Ute Tribe (previously listed as the Ute Mountain Tribe of the Ute Mountain Reservation, Colorado, New Mexico & Utah) (hereafter referred to as “The Consulted Tribes”).

The following tribes were contacted but did not participate in the face-to-face consultation meetings: Apache Tribe of Oklahoma; Fort McDowell Yavapai Nation, Arizona; Kaibab Band of Paiute Indians of the Kaibab Indian Reservation, Arizona; Mescalero Apache Tribe of the Mescalero Reservation, New Mexico; Pueblo of Acoma, New Mexico; Pueblo of Jemez, New Mexico; Pueblo of Nambe, New Mexico; Pueblo of Pojoaque, New Mexico; Pueblo of San Ildefonso, New Mexico; Pueblo of Tesuque, New Mexico; San Carlos Apache Tribe of the San Carlos Reservation, Arizona; Southern Ute Indian Tribe of the Southern Ute Reservation, Colorado; White Mountain Apache Tribe of the Fort Apache Reservation, Arizona; and Zuni Tribe of the Zuni Reservation, New Mexico (hereafter referred to as “The Invited Tribes”).

History and Description of the Remains

At an unknown date, human remains representing, at minimum, one individual were removed from an unknown location. The human remains were donated by the Hubbell family to the National Park Service in approximately 1967, and are believed to have been displayed in the Trading Post Rug Room by Roman Hubbell. The human remains consist of one human skull of indeterminate age and sex. No known individual was identified. No associated funerary objects are present.

Pursuant to 43 CFR 10.16, the Secretary of the Interior may make a recommendation for a transfer of control of culturally unidentifiable human remains. In December 2016, Hubbell Trading Post National Historic Site requested that the Secretary, through the Native American Graves Protection and Repatriation Review Committee, recommend the proposed transfer of control of the culturally unidentifiable Native American human remains in this notice to the Hopi Tribe of Arizona and Navajo Nation, Arizona, New Mexico & Utah. The Review Committee, acting pursuant to its responsibility under 25 U.S.C. 3006(c)(5), considered the request at its March 2017 meeting and recommended to the Secretary that the proposed transfer of control proceed. An April 2017 letter on behalf of the Secretary of the Interior from the National Park Service Associate Director for Cultural Resources, Partnerships, and Science transmitted the Secretary's independent review and concurrence with the Review Committee that:

• None of The Consulted Tribes or The Invited Tribes objected to the proposed transfer of control, and

• Hubbell Trading Post National Historic Site may proceed with the agreed-upon transfer of control of the culturally unidentifiable human remains to the Hopi Tribe of Arizona and the Navajo Nation, Arizona, New Mexico & Utah.

Transfer of control is contingent on the publication of a Notice of Inventory Completion in the Federal Register. This notice fulfills that requirement.

Determinations Made by Hubbell Trading Post National Historic Site

Officials of Hubbell Trading Post National Historical Site have determined that:

• Pursuant to 25 U.S.C. 3001(9), the human remains described in this notice are Native American, based on osteological analysis.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 43 CFR 10.16, the disposition of the human remains will be to the Hopi Tribe of Arizona and the Navajo Nation, Arizona, New Mexico & Utah.

Additional Requestors and Disposition

Representatives of any Indian tribe or Native Hawaiian organization not identified in this notice that wish to request transfer of control of these human remains should submit a written request with information in support of the request to Lloyd Masayumptewa, Superintendent, Hubbell Trading Post National Historic Site, ½ Mile West of Highway 191 & 264, Ganado, AZ 86505, telephone (928) 755-3475, email lloyd_masayumptewa@nps.gov, by July 31, 2017. After that date, if no additional requestors have come forward, transfer of control of the human remains to the Hopi Tribe of Arizona and the Navajo Nation, Arizona, New Mexico & Utah may proceed.

Hubbell Trading Post National Historic Site is responsible for notifying The Consulted Tribes and The Invited Tribes that this notice has been published.

Dated: May 9, 2017.
Melanie O'Brien,
Manager, National NAGPRA Program.

[FR Doc. 2017-13740 Filed 6-29-17; 8:45 am]

BILLING CODE 4312-52-P